CHEMICAL SAFETY AND HAZARD INVESTIGATION BOARD

Sunshine Act Meeting

In connection with its investigation into the natural gas explosion that occurred at the Kleen Energy power plant in Middletown, Connecticut, the United States Chemical Safety and Hazard Investigation Board (CSB) announces that it will hold a public meeting on June 28, 2010, in Connecticut. The purpose of the meeting is to consider urgent safety recommendations to the U.S. Occupational Safety and Health Administration (OSHA); the National Fire Protection Association (NFPA), the American Gas Association (AGA); the International Code Council (ICC) and the Chair of the International Fuel Gas Code Committee; the American Society of Mechanical Engineers (ASME); and other parties that result from the CSB investigation of this accident.

The meeting will begin at 6:30 p.m. in the Prince Edward Ballroom, Saint Clements Castle, 1931 Portland-Cobalt Road, Portland, Connecticut 06480.

At the meeting the CSB investigative team will present its preliminary findings on the circumstances of the accident to the three CSB board members and the public. The Board will then receive testimony from a panel of outside experts and other witnesses, who will discuss the issues raised by the case. Following a public comment period, the Board is expected to consider and vote on the draft safety recommendations.

The meeting is free and open to the public. Pre-registration is not required, but to assure adequate seating, attendees are encouraged to pre-register by e-mailing their names and affiliations to kleen@csb.gov by Friday, June 25, 2010.

On Sunday, February 7, 2010, Kleen Energy, a combined-cycle natural gas fueled power plant under construction in Middletown, Connecticut, experienced a catastrophic natural gas explosion that caused six deaths and at least 50 injuries.

The accident occurred during the planned cleaning of fuel gas piping, part of the commissioning and startup phase of construction. At the time of the accident workers were conducting a “gas blow,” whereby natural gas is forced through the piping at a high velocity and pressure in order to remove any debris within the piping. The gas and debris were subsequently released directly to atmosphere. At the Kleen Energy construction site, workers used natural gas at a pressure of approximately 650 pounds per square inch gauge (psig) to clean gas pipes. A total of 15 natural gas blows were completed intermittently over approximately four hours through a number of open pipe ends which were located less than 20 feet off the ground.

Efforts were made to eliminate or control potential ignition sources outside the power generation building. However, many ignition sources existed inside the building: electrical power to the building was on, welders were actively working, and diesel-fueled heaters were running.

Initial calculations by CSB investigators reveal that approximately 400,000 standard cubic feet of natural gas were released to the atmosphere near the building in the final ten minutes before the blast. Just over 2 million standard cubic feet of gas were released in total over the course of the morning. At approximately 11:15 a.m., the released natural gas found an ignition source and exploded.

The meeting will be videotaped and an official transcript will be included in the investigative file. All staff presentations are preliminary and are intended solely to allow the Board to consider the issues and factors involved in this case in a public forum. No factual analyses, conclusions, findings or recommendations of the staff should be considered final. Only after the Board has considered and approved the urgent recommendations will there be an approved final record.

Christopher W. Warner,
General Counsel.

[FR Doc. 2010-13588 Filed 6-2-10; 4:15 pm]

BILLING CODE 6350-01-P